NATIONAL FOUNDATION ON THE ARTS AND THE HUMANITIES

Federal Council on the Arts and the Humanities

Arts and Artifacts Indemnity Panel Advisory Committee

AGENCY: Federal Council on the Arts and the Humanities; National Endowment for the Humanities; National Foundation on the Arts and the Humanities.

ACTION: Notice of Charter Renewal for Arts and Artifacts Indemnity Panel advisory committee.

SUMMARY: The Federal Council on the Arts and the Humanities (the Council) gives notice that the Charter for the Arts and Artifacts Indemnity Panel advisory committee was renewed for an additional two-year period on November 22, 2019.

FOR FURTHER INFORMATION CONTACT: Elizabeth Voyatzis, Committee Management Officer, 400 Seventh Street SW, Washington, DC 20506. Telephone: (202) 606-8322, facsimile (202) 606-8600, or email at gencounsel@neh.gov. Hearing-impaired individuals are advised that information on this matter may be obtained by contacting the National Endowment for the Humanities' TDD terminal at (202) 606-8282.

SUPPLEMENTARY INFORMATION: Pursuant to section 9(a)(2) of the Federal Advisory Committee Act (5 U.S.C. App.) and its implementing regulations, 31 CFR 102-3.65, the Council gives notice that the Charter for the Arts and Artifacts Indemnity Panel advisory committee was renewed for an additional two-year period on November 22, 2019. The Council determined that the renewal of the Arts and Artifacts Indemnity Panel is necessary and in the public interest in connection with the performance of duties imposed upon the Council by the Arts and Artifacts Indemnity Act, 20 U.S.C. 971 et seq., as amended.

Elizabeth Voyatzis,
Committee Management Officer, National Endowment for the Humanities.

[FR Doc. 2019-25773 Filed 11-29-19; 8:45 am]

BILLING CODE 7536-01-P